DEPARTMENT OF THE INTERIOR

National Park Service

Notice of Inventory Completion: American Museum of Natural History, New York, NY

AGENCY: National Park Service, Interior.

ACTION: Notice.

Notice is here given in accordance with the Native American Graves Protection and Repatriation Act (NAGPRA), 25 U.S.C. 3003, of the completion of an inventory of human remains and associated funerary objects in the possession of the American Museum of Natural History, New York, NY. The human remains and associated funerary objects were removed from a cave facing Crab Bay, Kruzof Island, Sitka Borough, AK.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by American Museum of Natural History professional staff in consultation with representatives of Central Council of the Tlingit & Haida Indian Tribes and Sitka Tribe of Alaska.

In 1931, human remains representing a minimum of one individual were collected by six students of the Sheldon Jackson School from a cave facing Crab Bay, Kruzof Island, Sitka Borough, AK. W. Leslie Yaw, superintendent of the school, sold them to the American Museum of Natural History in 1932. No known individual was identified. The eight associated funerary objects are a carved bentwood box, the box lid, cord, matting cover, a raven’s tail blanket fragment, shredded bark, and two digging sticks.

The individual has been identified as Native American based on the American Museum of Natural History’s documentation and geographic information. The original catalog describes the remains as “Tlingit,” and their geographic origin is consistent with the postcontact territory of the Sitka Tlingit (present-day Sitka Tribe of Alaska). Consultation information provided by the Sitka Tribe of Alaska indicates that the carving on the bentwood box represents the frog crest of the Sitka Kiks.adi clan. Raven’s tail blankets, of the type found associated with this burial, were made by the Tlingit immediately prior to and at the time of contact with non-native traders and settlers. Scholarly publications and consultation information provided by the Sitka Tribe of Alaska indicate that the Sitka Kiks.adi clan inhabited Kruzof Island when Russians first arrived there. The Sitka Kiks.adi clan is represented by the Sitka Tribe of Alaska.

Officials of the American Museum of Natural History have determined that, pursuant to 25 U.S.C. 3001 (9-10), the human remains described above represent the physical remains of a minimum of one individual of Native American ancestry. Officials of the American Museum of Natural History also have determined that, pursuant to 25 U.S.C. 3001 (3)(A), the eight objects described above are reasonably believed to have been placed with or near individual human remains at the time of death or later as part of the death rite or ceremony. Lastly, officials of the American Museum of Natural History have determined that, pursuant to 25 U.S.C. 3001 (2), there is a relationship of shared group identity that can be reasonably traced between the Native American human remains and associated funerary objects and the Sitka Tribe of Alaska.

Representatives of any other Indian tribe that believes itself to be culturally affiliated with the human remains and associated funerary objects should contact Luc Litwinionek, Director of Cultural Resources, American Museum of Natural History, Central Park West at 79th Street, New York, NY 10024-5192, telephone (212) 769-5846, before August 4, 2003. Repatriation of the human remains and associated funerary objects to the Sitka Tribe of Alaska may proceed after that date if no additional claimants come forward.

The American Museum of Natural History is responsible for notifying Central Council of the Tlingit & Haida Indian Tribes and Sitka Tribe of Alaska that this notice has been published.

Dated: May 23, 2003.
John Robbins,
Assistant Director, Cultural Resources.

[FR Doc. 03-16805 Filed 7-2-03; 8:45 am]

BILLING CODE 4310-70-S